DEPARTMENT OF AGRICULTURE

Foreign Agricultural Service

Assessment of Fees for Dairy Import Licenses for the 2005 Tariff-Rate Import Quota Year

AGENCY: Foreign Agricultural Service, USDA.

ACTION: Notice.

SUMMARY: This notice announces that the fee to be charged for the 2005 tariff-rate quota (TRQ) year for each license issued to a person or firm by the Department of Agriculture authorizing the importation of certain dairy articles which are subject to tariff-rate quotas set forth in the Harmonized Tariff Schedule of the United States (HTS) will be $200.00 per license.

DATES: Effective January 1, 2005.

FOR FURTHER INFORMATION CONTACT: Michael Hankin, Dairy Import Quota Manager, Import Policies and Programs Division, STOP 1021, U.S. Department of Agriculture, 1400 Independence Avenue, SW., Washington, DC 20250-1021 or telephone at (202) 720-9439 or e-mail at Michael.Hankin@fas.usda.gov.

SUPPLEMENTARY INFORMATION: The Dairy Import Tariff-Rate Quota Licensing Regulation promulgated by the Department of Agriculture and codified at 7 CFR 6.20-6.37 provides for the issuance of licenses to import certain dairy articles that are subject to TRQs set forth in the HTS. Those dairy articles may only be entered into the United States at the in-quota TRQ tariff-rates by or for the account of a person or firm to whom such licenses have been issued and only in accordance with the terms and conditions of the regulation.

Licenses are issued on a calendar year basis, and each license authorizes the license holder to import a specified quantity and type of dairy article from a specified country of origin. The use of licenses by the license holder to import dairy articles is monitored by the Dairy Import Quota Manager, Import Policies and Programs Division, Foreign Agricultural Service, U.S. Department of Agriculture, and the U.S. Customs Service.

The regulation at 7 CFR 6.33(a) provides that a fee will be charged for each license issued to a person or firm by the Licensing Authority in order to reimburse the Department of Agriculture for the costs of administering the licensing system under this regulation.

The regulation at 7 CFR 6.33(a) also provides that the Licensing Authority will announce the annual fee for each license and that such fee will be set out in a notice to be published in the Federal Register. Accordingly, this notice sets out the fee for the licenses to be issued for the 2005 calendar year.

Notice

The total cost to the Department of Agriculture of administering the licensing system during 2004 has been determined to be $518,000 and the estimated number of licenses expected to be issued is 2,580. Of the total cost, $205,000 represents staff and supervisory costs directly related to administering the licensing system for 2004; $50,000 represents the total computer costs to monitor and issue import licenses for 2004; and $263,000 represents other miscellaneous costs, including travel, postage, publications, forms, Internet software development, and ADP system contractors.

Accordingly, notice is hereby given that the fee for each license issued to a person or firm for the 2005 calendar year, in accordance with 7 CFR 6.33, will be $200.00 per license.

Issued at Washington, DC, the 16th day of August, 2004.
Michael Hankin,
Licensing Authority.

[FR Doc. 04-19146 Filed 8-19-04; 8:45 am]

BILLING CODE 3410-10-P